DEPARTMENT OF AGRICULTURE

Economic Research Service

Notice of Intent To Request New Information Collection

AGENCY: Economic Research Service, USDA.

ACTION: Notice and request for comments.

SUMMARY: In accordance with the Paperwork Reduction Act of 1995, this notice invites the general public and other public agencies to send comments regarding any aspect of this proposed information collection. This is a new collection for the Rural Establishment Innovation Survey.

DATES: Written comments on this notice must be received on or before October 25, 2011 to be assured of consideration.

ADDRESSES: Address all comments concerning this notice to Tim Wojan, Resource and Rural Economics Division, Economic Research Service, U.S. Department of Agriculture, 1800 M St., NW., Room N4110, Washington, DC 20036-5801. Comments may also be submitted via fax to the attention of Tim Wojan at 202-694-5756 or via e-mail to twojan@ers.usda.gov. Comments will also be accepted through the Federal eRulemaking Portal. Go to http://www.regulations.gov, and follow the online instructions for submitting comments electronically.

All written comments will be open for public inspection at the office of the Economic Research Service during regular business hours (8:30 a.m. to 5 p.m., Monday through Friday) at 1800 M St., NW., Room N4110, Washington, DC 20036-5801.

All responses to this notice will be summarized and included in the request for Office of Management and Budget approval. All comments and replies will be a matter of public record. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

FOR FURTHER INFORMATION CONTACT: For further information contact Tim Wojan at the address in the preamble. Tel. 202-694-5419.

SUPPLEMENTARY INFORMATION: Title: Rural Establishment Innovation Survey.

OMB Number: 0536-XXXX.

Expiration Date: Three years from the date of approval.

Type of Request: New collection.

Abstract: This survey of business establishments, funded through USDA's Rural Development Mission Area, will be conducted over a 6-month period with up to 30,000 respondents to collect information on rural tradable business sectors such as manufacturing and professional services. This information will contribute to a better understanding of how rural businesses and their communities are dealing with the increasing competitive pressures and opportunities associated with the spread of new information technologies through our economy and the business and community characteristics associated with effective response to these pressures and opportunities. This information is critical to the Rural Development Mission Area's aim of creating jobs, developing new markets and increasing competitiveness for rural businesses and communities.

The information to be collected by the Rural Establishment Innovation Survey is necessary to understand: (1) The adoption of innovative practices and their contribution to firm productivity; (2) the availability and use of local and regional assets (such as workforce education, local financial institutions, strong local business and other economic associations, and transportation infrastructure) and the association of these assets with successful adjustment; and (3) the extent and importance of participation in Federal, State and local programs designed to promote rural business vitality and growth. This need is made more urgent by increased international competition in goods and some service markets, particularly from low labor cost countries. The traditional cost advantage of domestic rural establishments has been significantly eroded by these developments, requiring emphasis on new products, new processes, new marketing channels and improved customer service. A thorough understanding of the viability of the rural business sector requires collecting information on the capability for innovation.

As the first collection of information devoted specifically to innovation in rural business establishments, the proposed survey will complement other Federal efforts in gauging innovative activity in the private sector. Information on formal research and development (R&D) activities is collected by the National Science Foundation using the Business R&D and Innovation Survey. While some of this formal research and development activity takes place in nonmetropolitan counties, it is anticipated that the great majority of rural innovation occurs less through the creation of new patentable products than through the adoption of new practices and niche marketing. The emphasis of the proposed collection will be on understanding the process of innovation in business establishments as opposed to measuring R&D inputs.

Another difference between this and other Federal surveys on innovative activity will be the focus on constraints to innovation stemming from nonmetropolitan locations. Information on the availability of skilled workers and the ability to recruit managers and professionals will inform possible human capital impediments to innovation. Information on access to credit needed for business formation and development will allow for assessing financing impediments to innovation. Information on the availability of broadband Internet service and how this capability affects business strategy will allow assessing infrastructure impediments to innovation. Information on interaction with suppliers, customers, competitors, business associations and other local institutions providing real services to the establishment will inform the importance of regional clusters to innovation.

The survey will collect data from about 30,000 business establishments in tradable sectors that will include mining, manufacturing, wholesale trade, transportation and warehousing, information, finance and insurance, professional/scientific/technical services, arts, and management of businesses. Only businesses with 5 or more employees will be included in the sample. While the focus of the survey will be on establishments in nonmetropolitan counties, establishments from metropolitan counties will be sampled in adequate numbers to allow comparative analysis. Businesses will be selected at random from strata defined by establishment size categories, industry and metropolitan or nonmetropolitan status of the county. The sample will be selected from the business establishment list maintained by state employment security departments where state approval is granted, and from a proprietary business establishment list frame for those states where approval is not granted. The much more comprehensive coverage of new and small establishments available in state administrative data provides a compelling argument for this hybrid sample frame approach, as these establishments are critical to examining processes of entrepreneurship and innovation.

The interview protocol will include a screening interview to identify the most knowledgeable person in the establishment to respond to questions regarding innovative activities of the entity. Screening greatly improves the quality and effectiveness of the contact information. The most appropriate phone number, e-mail address and mailing address will be collected at this time to allow efficient distribution of a multi-modal survey instrument to the most appropriate respondent for the business. Respondents will have the flexibility to respond to a Web questionnaire, a mail questionnaire, or a telephone survey based on their personal preference. This protocol will reduce respondent burden by using the survey mode which is most efficient for a given respondent. Past research has demonstrated that multi-modal surveys also increase survey response rates. A limited number of control surveys will be used to assess any mode bias.

Social exchange theory will also be invoked as this is seen as integral to the tailored design methodology (Dillman et al., 2009) that will be employed in this study to increase response rate. In addition to offering mixed survey modes, the design will integrate multiple and mutually supportive ways to appeal to the diversity of respondents in this business population. The following are some examples of these design elements:

• The survey request will be distinguishable from other surveys and will emphasize how the information will be used and describe the benefits back to the population for responding to the survey.

• Survey appeals in contacts will show positive regard and call on the norms of social responsibility by asking for respondents' help and advice, as some respondents feel rewarded when they know they have helped others.

• Survey contacts will be personally addressed, toll free numbers will be provided for answering questions and providing help. Confidentiality of responses will be ensured and respondents will know how to contact the surveyor if they have questions on security or other issues.

• All contacts will be personalized and will emphasize why the study is important and express appreciation for respondents' help. They will be formally thanked for promptly completing questionnaires.

• Small tangible token rewards provided in advance and at the time of the survey request will be further tested with small businesses to encourage response. Previous survey research has shown that small cash token incentives provided with the survey significantly increase response rates and do much better than promised rewards or nonmonetary rewards.

A key component of tailored survey design is considering and balancing how features of questions, questionnaires, mailings, interviewing, and the context of the survey will influence trust, cost, and rewards associated with the survey circumstances and respondents.

All study instruments will be kept as simple and respondent-friendly as possible. Responses are voluntary and confidential. Responses will be used to produce statistics and for no other purpose. Data files from the survey will not be released to the public.

Affected Public: Respondents include business establishments with at least 5 employees in both nonmetropolitan and metropolitan counties.

Estimated Number of Respondents

The survey is cross-sectional and will be completed at one point in time. The survey will have a complex mixed survey administration to include telephone screening, pre-notification letter with Web access, multi-contact telephone interviewing, follow-up nonrespondent mail questionnaires, and simultaneous Web questionnaires offered during all contacts. Completion time for each questionnaire, based on comparisons with similar mixed modes is estimated at 30 minutes per completion, including time for reading correspondence, returning an eligibility postcard or responding to a screening call, reviewing instructions, gathering data needed, and responding to questionnaire items. It is also expected that those choosing not to participate will require 10 minutes to review the materials and decide not to participate.

Full Study: The initial sample size for the full study is 30,000 businesses. The expected overall response rate is 80 percent for firms in the main study. The total estimated response burden for all of those participating in the study is 12,000 hours (30,000 respondents × 80 percent response rate × 0.50 hours) and for the non-responding business is 1,000 hours (6,000 respondents × 10 minutes).

Pilot Study: A pilot test of the survey will be done in advance of the full study survey. The purpose of the pilot is to evaluate the survey protocol, and test instruments and questionnaires. The initial sample size for this phase of the research is 4,000 businesses. The expected response rate is 80% of firms. The total estimated response burden for the pilot testing is 1,600 hours (4,000 respondents × 80 percent × 0.5 hours). Non-responding businesses will experience 133 hours of burden (800 respondents × 10 minutes). Total respondent burden is estimated at 14,733 hours (see table below).

Testing will be limited to a maximum of 9 businesses which will be consulted on the questionnaire and asked to complete the questionnaire in a cognitive interview test.

Dated: July 14, 2011.
Katherine R. Smith,
Administrator, Economic Research Service.

[FR Doc. 2011-21848 Filed 8-25-11; 8:45 am]

BILLING CODE 3410-18-P